DEPARTMENT OF TRANSPORTATION

Federal Motor Carrier Safety Administration

[Docket No. FMCSA 2004-19348]

Notice of Request for Comments on Renewing Approval of an Information Collection: OMB Control No. 2126-0015 (Designation of Agents, Motor Carriers, Brokers and Freight Forwarders)

AGENCY: Federal Motor Carrier Safety Administration (FMCSA), DOT.

ACTION: Notice; request for comments.

SUMMARY: The FMCSA announces that the Information Collection Request (ICR) described in this notice is being sent to the Office of Management and Budget (OMB) for review and approval. This information collection allows registered motor carriers, property brokers and freight forwarders a means of meeting process agent requirements. On September 14, 2004, the agency published a Federal Register notice announcing a 60-day comment period on this information collection (69 FR 55490). We are required to send ICRs to OMB under the Paperwork Reduction Act.

DATES: Please submit comments by March 31, 2005.

ADDRESSES: Send comments to the Office of Information and Regulatory Affairs, Office of Management and Budget, 725 Seventeenth Street, NW., Washington, DC 20503, Attention: DOT Desk Officer. We particularly request your comments on whether the collection of information is necessary for the FMCSA to meet its goal of reducing truck crashes, including: Whether the information is useful to this goal; the accuracy of the estimate of the burden of the information collection; ways to enhance the quality, utility and clarity of the information collected; and ways to minimize the burden of the collection of information on respondents, including the use of automated collection techniques or other forms of information technology. OMB wants to receive comments within 30 days of publication of this notice in order to act on the ICR quickly.

FOR FURTHER INFORMATION CONTACT: Mr. James Keenan (202-385-2400), Commercial Enforcement (MC-ECC), Federal Motor Carrier Safety Administration, U.S. Department of Transportation, 400 Seventh Street, SW., Washington, DC 20590. Office hours are from 7:30 a.m. to 4 p.m., e.s.t., Monday through Friday, except Federal holidays.

SUPPLEMENTARY INFORMATION: Title: Designation of Agents, Motor Carriers, Brokers and Freight Forwarders.

OMB Control Number: 2126-0015.

Background: The Secretary of Transportation (Secretary) is authorized to register for-hire motor carriers of regulated commodities under the provisions of 49 U.S.C. 13902; freight forwarders under the provisions of 49 U.S.C. 13903; and property brokers under the provisions of 49 U.S.C. 13904. These persons may conduct transportation services only if they are registered pursuant to 49 U.S.C. 13901. The Secretary has delegated authority pertaining to these registration requirements to the FMCSA.

Registered motor carriers (including private carriers) and freight forwarders must designate: (1) An agent upon whom service of notices in proceedings before the Secretary may be made (49 U.S.C. 13303); and (2) for every State in which they operate and traverse in the United States during such operations, agents upon whom process issued by a court may be served in actions brought against the registered transportation entity (49 U.S.C. 13304). Every broker shall make a designation for each State in which its offices are located or in which contracts are written. Regulations governing the designation of process agents are found at 49 CFR part 366. This designation is filed with the FMCSA on Form BOC-3, “Designation of Agent for Service of Process.”

Respondents: Motor carriers, freight forwarders and brokers.

Average Burden Per Response: 10 minutes.

Estimated Total Annual Burden: 5,000 hours (30,000 filings × 10 minutes/60 minutes = 5,000 hours).

Authority: The Paperwork Reduction Act of 1995; 44 U.S.C. Chapter 35, as amended; 49 U.S.C. 13303, 13304, 13901, 13902, 13903 and 13904; and 49 CFR 1.73 and 366.

Issued on: February 24, 2005.
Annette M. Sandberg,
Administrator.

[FR Doc. 05-3953 Filed 2-28-05; 8:45 am]

BILLING CODE 4910-EX-P